ENVIRONMENTAL PROTECTION AGENCY

40 CFR Part 81

[EPA-HQ-OAR-2014-0464; FRL-9943-02-OAR]

EPA Responses to Certain State Designation Recommendations for the 2010 Sulfur Dioxide National Ambient Air Quality Standard: Notice of Availability and Public Comment Period

AGENCY: Environmental Protection Agency (EPA).

ACTION: Notice of availability and public comment period.

SUMMARY: Notice is hereby given that the Environmental Protection Agency (EPA) has posted on its Internet Web site responses to certain state designation recommendations for the 2010 Sulfur Dioxide (SO2) National Ambient Air Quality Standard (NAAQS). The EPA invites the public to review and provide input on its responses during the comment period specified in the DATES section. The EPA sent its responses directly to the states on or about February 16, 2016. The EPA intends to make final the designation determinations for the areas of the country addressed by these responses no later than July 2, 2016.

DATES: Comments must be received on or before March 31, 2016. Please refer to SUPPLEMENTARY INFORMATION for additional information on the comment period.

ADDRESSES: Submit your comments, identified by Docket ID No. EPA-HQ-OAR-2014-0464, at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, Cloud, or other file sharing system). For additional submission methods, the full EPA public comment policy, information about CBI or multimedia submissions, and general guidance on making effective comments, please visit http://www2.epa.gov/dockets/commenting-epa-dockets.

FOR FURTHER INFORMATION CONTACT: For general questions concerning this action, please contact Rhea Jones, U.S. EPA, Office of Air Quality Planning and Standards, Air Quality Planning Division, C539-04, Research Triangle Park, NC 27711, telephone (919) 541-2940, email at jones.rhea@epa.gov. For questions regarding areas in EPA Region 1, please contact Leiran Biton, U.S. EPA, telephone (617) 918-1267, email at biton.leiran@epa.gov. For questions regarding areas in EPA Region 2, please contact Henry Feingersh, U.S. EPA, telephone (212) 637-3382, email at feingersh.henry@epa.gov. For questions regarding areas in EPA Region 3, please contact Irene Shandruk, U.S. EPA, telephone (215) 814-2166, email at shandruk.irene@epa.gov. For questions regarding areas in EPA Region 4, please contact Twunjala Bradley, U.S. EPA, telephone (404) 562-9352, email at bradley.twunjala@epa.gov. For questions regarding areas in EPA Region 5, please contact John Summerhays, U.S. EPA, telephone (312) 886-6067, email at summerhays.john@epa.gov. For questions regarding areas in EPA Region 6, please contact Dayana Medina, U.S. EPA, telephone (214) 665-7241, email at medina.dayana@epa.gov. For questions regarding areas in EPA Region 7, please contact David Peter, U.S. EPA, telephone (913) 551-7397, email at peter.david@epa.gov. For questions regarding areas in EPA Region 8, please contact Adam Clark, U.S. EPA, telephone (303) 312-7104, email at clark.adam@epa.gov. For questions regarding areas in EPA Region 9, please contact Gwen Yoshimura, U.S. EPA, telephone (415) 947-4134, email at yoshimura.gwen@epa.gov. For questions regarding areas in EPA Region 10, please contact John Chi, U.S. EPA, telephone (206) 553-1185, email at chi.john@epa.gov.

SUPPLEMENTARY INFORMATION:

I. Background and Purpose

On June 2, 2010, the EPA Administrator signed a notice of final rulemaking that revised the primary SO2 NAAQS (75 FR 35520; June 22, 2010) after review of the existing two primary SO2 standards promulgated on April 30, 1971 (36 FR 8187). The EPA established the revised primary SO2 NAAQS at 75 parts per billion (ppb) which is attained when the 3-year average of the annual 99th percentile of 1-hour daily maximum concentrations does not exceed 75 ppb.

The process for designating areas following promulgation of a new or revised NAAQS is contained in the Clean Air Act (CAA) section 107(d) (42 U.S.C. 7407). After promulgation of a new or revised NAAQS, each governor or tribal leader has an opportunity to recommend air quality designations, including the appropriate boundaries for nonattainment areas, to the EPA. The EPA considers these recommendations as part of its duty to promulgate the formal area designations and boundaries for the new or revised NAAQS. By no later than 120 days prior to promulgating designations, the EPA is required to notify states and tribes, as appropriate, of any intended modifications to an area designation or boundary recommendation that the EPA deems necessary.

The EPA completed an initial round of SO2 designations for certain areas of the country on July 25, 2013, designating 29 areas in 16 states as nonattainment. Pursuant to a March 2, 2015, court-ordered schedule,¹ the EPA must complete SO2 designations for the remaining areas of the country by three specific deadlines: July 2, 2016, December 31, 2017, and December 31, 2020. This current second round of designation addresses two groups of areas: (1) Areas that have newly monitored violations of the 2010 SO2 NAAQS, and (2) areas that contain any stationary sources that had not been announced as of March 2, 2015, for retirement and that according to the EPA's Air Markets Database emitted in 2012 either (i) more than 16,000 tons of SO2, or (ii) more than 2,600 tons of SO2 with an annual average emission rate of at least 0.45 pounds of SO2/mmBTU. The EPA has determined that the areas meeting these criteria are associated with 68 stationary sources and the island of Hawaii.

¹ Sierra Club v. McCarthy, No. 3-13-cv-3953 (SI) (N.D. Cal. Mar. 2, 2015).

On or about February 16, 2016, the EPA notified affected states of its intended designation of certain specific areas as either nonattainment, unclassifiable/attainment, or unclassifiable for the 2010 SO2 NAAQS. Those states now have an opportunity to demonstrate why they believe an intended modification by the EPA regarding those specified areas may be inappropriate. In 2015, the EPA encouraged these states to provide additional information for the EPA to consider in finalizing designations for these specified areas.

The purpose of this notice of availability is to solicit input from interested parties other than states on the EPA's recent responses to the state designation recommendations for the 2010 SO2 NAAQS. These responses, and their supporting technical analyses, can be found on the EPA's Internet Web site at http://www.epa.gov/so2designations and also in the public docket for SO2 designations at Docket ID No. EPA-HQ-OAR-2014-0464. The CAA section 107(d) provides a process for air quality designations that involves recommendations by states and tribes to the EPA and responses from the EPA to those parties, prior to the EPA promulgating final area designations and boundaries. The EPA is not required under the CAA section 107(d) to seek public comment during the designation process, but is electing to do so for these areas under the 2010 SO2 NAAQS in order to gather additional information for the EPA to consider before making final designations for the specific areas addressed in the EPA's recent responses to states. The EPA invites public input on its responses to states regarding these areas during the 30-day comment period provided in this notice of availability. In order to receive full consideration, input from the public must be submitted by March 31, 2016. At this time, the EPA is not asking for public comments on other areas for which states and tribes have submitted designation recommendations, beyond those to which the EPA has provided the responses that are the subject of this proposed action. This notice of availability and opportunity for public comment does not affect any rights or obligations of any state, tribe or the EPA which might otherwise exist pursuant to the CAA section 107(d).

Please refer to the ADDRESSES section above in this document for specific instructions on submitting comments and locating relevant public documents.

In establishing nonattainment area boundaries for a particular area, the EPA is required to identify both the area that does not meet the standard and any nearby area contributing to the area that does not meet the standard. We are particularly interested in receiving comments, supported by relevant information, if you believe that a specific geographic area that the EPA is proposing to identify as a nonattainment area should not be categorized by the CAA section 107(d) criteria as nonattainment, or if you believe that a specific nearby area not proposed by the EPA to be identified as contributing to a nonattainment area should in fact be categorized as contributing to nonattainment using the CAA section 107(d) criteria. Please be as specific as possible in supporting your views.

• Describe any assumptions and provide any technical information and/or data that you used.

• Provide specific examples to illustrate your concerns, and suggest alternatives.

• Explain your views as clearly as possible.

• Provide your input by the comment period deadline identified.

The EPA intends to complete designations for the areas subject to this round no later than July 2, 2016. The EPA is not yet prepared to respond to state and tribal area designation recommendations, or seek public input thereon, for other areas that are not yet designated for the 2010 SO2 NAAQS. The EPA will address those areas in the last two rounds of designations scheduled for 2017 and 2020. Additional information on the EPA's intended approach for addressing designations for all areas can be found on the EPA's SO2 implementation Web site at http://www3.epa.gov/airquality/sulfurdioxide/implement.html. Please be advised that, in this action, the EPA is not proposing as a regulatory action and is not soliciting public comments on the intended approach for these other areas, regarding either designations or implementation.

II. Instructions for Submitting Public Comments and Internet Web Site for Rulemaking Information

A. What should I consider as I prepare my comments for the EPA?

1. Submitting CBI. Do not submit this information to the EPA through www.regulations.gov or email. Clearly mark the part or all of the information that you claim to be CBI. For CBI in a disk or CD ROM that you mail to the EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2. Send or deliver information identified as CBI only to the following address: Tiffany Purifoy, OAQPS CBI Officer, U.S. EPA, Office of Air Quality Planning and Standards, Mail Code C404-02, Research Triangle Park, NC 27711, telephone (919) 541-0878, email at purifoy.tiffany@epa.gov, Attention Docket ID No. EPA-HQ-OAR-2014-0464.

2. Tips for Preparing Your Comments. When submitting comments, remember to:

• Identify the rulemaking by docket number and other identifying information (subject heading, Federal Register date and page number).

• Follow directions.

• Explain why you agree or disagree; suggest alternatives and substitute language for your requested changes.

B. Where can I find additional information for this rulemaking?

The EPA has also established a Web site for this rulemaking at http://www3.epa.gov/so2designations. The Web site includes the EPA's state and tribal designation recommendations, information supporting the EPA's preliminary designation decisions, as well as the rulemaking actions and other related information that the public may find useful.

Dated: February 16, 2016.
Mary E. Henigin,
Acting Director, Office of Air Quality Planning and Standards.

[FR Doc. 2016-04468 Filed 2-29-16; 8:45 am]

BILLING CODE 6560-50-P